DEPARTMENT OF HOMELAND SECURITY

Coast Guard

33 CFR Part 165

[Docket No. USCG-2013-0628]

Safety Zone; AVI Resort and Casino Labor Day Fireworks Display; Colorado River

AGENCY: Coast Guard, DHS.

ACTION: Notice of enforcement of regulation.

SUMMARY: The Coast Guard will enforce a Safety Zone for the AVI Resort and Casino Labor Day Fireworks Display located on the Colorado River in Laughlin, Nevada from 8 p.m. until 9:45 p.m. on September 1, 2013. This action is necessary for the safety of spectators and participants, including all crews, vessels and persons on navigable waters during the AVI Resort and Casino Fireworks. During the enforcement period, in accordance with the established Safety Zone, entry into transiting through or anchoring in the Safety Zone is prohibited to all vessels not registered with the event sponsor as participants or official patrol vessels, unless specifically authorized by the Captain of the Port Sector San Diego or a designated representative.

DATES: The regulations in 33 CFR 165.1124, Table 1, Item 4, will be enforced from 8 p.m. through 9:45 p.m. on September 1, 2013.

FOR FURTHER INFORMATION CONTACT: If you have questions on this notice of enforcement, call Lieutenant John Bannon, U.S. Coast Guard Sector San Diego at 619-278-7261, or by email at John.E.Bannon@uscg.mil.

SUPPLEMENTARY INFORMATION: The Coast Guard will enforce the Safety Zone on the Colorado River for the AVI Resort and Casino Labor Day Fireworks Display in 33 CFR 165.1124, Table 1, Item 4, from 8 p.m. through 9:45 p.m. on September 1, 2013.

Under provisions of 33 CFR 165.1124, a vessel may not enter the regulated area, unless it receives permission from the Captain of the Port or a designated representative. Persons or vessels desiring to enter into or pass through the Safety Zone may request permission from the Captain of the Port or a designated representative. If permission is granted, all persons and vessels shall comply with the instructions of the Captain of the Port or designated representative. Spectator vessels may safely transit outside the regulated area but may not anchor, block, loiter, or impede the transit of participants or official patrol vessels. The Coast Guard may be assisted by other Federal, State, or Local law enforcement agencies in enforcing this regulation.

This notice is issued under authority of 5 U.S.C. 552 (a) and 33 CFR 165.1124. In addition to this notice in the Federal Register, the Coast Guard will provide the maritime community with advance notification of this enforcement period via the Local Notice to Mariners and local advertising by the event sponsor.

If the Captain of the Port Sector San Diego Patrol Commander or his designated representative determines that the regulated area need not be enforced for the full duration stated on this notice, he or she may use a Broadcast Notice to Mariners or other communications coordinated by the event sponsor to grant general permission to enter the regulated area.

Dated: July 25, 2013.
S.M. Mahoney,
Captain, U.S. Coast Guard, Captain of the Port San Diego.

[FR Doc. 2013-19100 Filed 8-6-13; 8:45 am]

BILLING CODE 9110-04-P